DEPARTMENT OF COMMERCE

National Oceanic and Atmospheric Administration

RIN 0648- XC599

Marine Mammals; File No. 17845

AGENCY: National Marine Fisheries Service (NMFS), National Oceanic and Atmospheric Administration (NOAA), Commerce.

ACTION: Notice; issuance of permit.

SUMMARY: Notice is hereby given that a permit has been issued to Rachel Cartwright, Keiki Kohola Project, 761 Coronado Place, Oxnard, CA 93035 to conduct research on humpback whales (Megaptera novaeangliae).

ADDRESSES: The permit and related documents are available for review upon written request or by appointment in the following offices: See SUPPLEMENTARY INFORMATION.

FOR FURTHER INFORMATION CONTACT: Kristy Beard or Carrie Hubard, (301)427-8401.

SUPPLEMENTARY INFORMATION: On April 9, 2013, notice was published in the Federal Register (78 FR 21113) that a request for a permit to conduct research on the species identified above had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit authorizes the level A and B harassment of humpback whales during photo-identification, behavioral follows, and surface and underwater observations in Hawaii, Alaska, and California. The applicant will approach up to 1,047 humpback whales in Hawaii, 630 in Alaska and 480 in California each year. Short-term, non-invasive, suction cup tagging of maternal females will be conducted within Hawaiian waters to document nocturnal behaviors and fine-scale movements and in Californian waters to better understand use of waters around the Santa Barbara Channel and Channel Islands (Anacapa, Santa Cruz and Santa Rosa Islands). Twelve tags would be deployed annually in both Hawaii and California. The purpose of the proposed research is to identify and define critical habitat used by maternal female humpback whales and their calves, across the period from infancy to maturity and independence. Opportunistic research on Pacific white-sided dolphins (Lagenorhynchus obliquidens), Risso's dolphins (Grampus griseus), Dall's porpoise (Phocoenoides dalli), blue whales (Balaenoptera musculus), killer whales (Orcinus orca), minke whales (B. acutorostrata), spinner dolphins (Stenella longirostris), bottlenose dolphins (Tursiops truncatus), and false killer whales (Pseudorca crassidens) may also be conducted. Incidental harassment of Steller (Eumetopias jubatus) and California sea lions (Zalophus californianus) would also occur. The permit is valid for five years from the date of issuance.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Documents may be reviewed in the following locations:

Permits and Conservation Division, Office of Protected Resources, NMFS, 1315 East-West Highway, Room 13705, Silver Spring, MD 20910; phone (301)427-8401; fax (301)713-0376;

Alaska Region, NMFS, P.O. Box 21668, Juneau, AK 99802-1668; phone (907)586-7221; fax (907)586-7249;

West Coast Region, NMFS, 501 West Ocean Blvd., Suite 4200, Long Beach, CA 90802-4213; phone (562)980-4005; fax (562)980-4027; and

Pacific Islands Region, NMFS, 1601 Kapiolani Blvd., Rm 1110, Honolulu, HI 96814-4700; phone (808)944-2200; fax (808)973-2941.

Dated: January 27, 2014.
P. Michael Payne,
Chief, Permits and Conservation Division, Office of Protected Resources, National Marine Fisheries Service.

[FR Doc. 2014-01906 Filed 1-30-14; 8:45 am]

BILLING CODE 3510-22-P